ENVIRONMENTAL PROTECTION AGENCY

[EPA-HQ-OAR-2021-0120; FRL—9938-01-OMS]

Information Collection Request Submitted to OMB for Review and Approval; Comment Request; NESHAP for Primary Magnesium Refining (Renewal)

AGENCY: Environmental Protection Agency (EPA).

ACTION: Notice.

SUMMARY: The Environmental Protection Agency has submitted an information collection request (ICR), NESHAP for Primary Magnesium Refining (EPA ICR Number 2098.10, OMB Control Number 2060-0536), to the Office of Management and Budget (OMB) for review and approval in accordance with the Paperwork Reduction Act. This is a proposed extension of the ICR, which is currently approved through June 30, 2022. Public comments were previously requested, via the Federal Register, on April 13, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before July 15, 2022.

ADDRESSES: Submit your comments, referencing Docket ID Number EPA-HQ-OAR-2021-0120, to EPA online using https://www.regulations.gov/ (our preferred method), or by email to docket.oeca@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Primary Magnesium Refining (40 CFR part 63, subpart TTTTT) were proposed on January 22, 2003; promulgated on October 10, 2003; and amended on April 20, 2006. These regulations apply to existing and new facilities that perform primary magnesium refining where the total hazardous air pollutants (HAPs) emitted are greater than, or equal to, 10 tons per year for each HAP, or where the total HAPs emitted are greater than, or equal to, 25 tons per year of any combination of HAPs. New facilities include those that commenced either construction or reconstruction after the date of proposal. This information is being collected to assure compliance with 40 CFR part 63, subpart TTTTT. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to the NESHAP.

Form Numbers: None.

Respondents/affected entities: Primary magnesium refining facilities.

Respondent's obligation to respond: Mandatory 40 CFR 63, Subpart TTTTT.

Estimated number of respondents: One (total).

Frequency of response: Semiannually.

Total estimated burden: 972 hours (per year). Burden is defined at 5 CFR 1320.3(b).

Total estimated cost: $116,000 (per year), which includes $1,200 in annualized capital/startup and/or operation & maintenance costs.

Changes in the Estimates: There is an adjustment increase in the total estimated burden as currently identified in the OMB Inventory of Approved Burdens. This increase is not due to any program changes. The burden in this ICR has been adjusted to account for more accurate estimates for performance testing costs based on consultations with industry. The previous ICR assumed that a single performance test was conducted once every three years by the affected facility. This ICR adjusts the performance testing costs to reflect that the facility conducts separate performance tests for individual units during the term of the ICR. The regulation, 40 CFR 63.9912, requires performance testing no less frequently than twice (at mid-term and renewal) of each term of the Title V permit, or every 2.5 years, for each emission point. For the facility subject to this rule, we have clarified that multiple emission points must be tested twice during the Title V permit term, with approximately 20 percent of units anticipated to require a retest. This ICR therefore assumes that performance tests are conducted for approximately two emission units in each year during the three-year period of this ICR. Therefore, labor costs have been adjusted to account for submission of notification and reports for performance tests twice annually. This change also results in an increase in the number of responses.

Courtney Kerwin,
Director, Regulatory Support Division.

[FR Doc. 2022-12890 Filed 6-14-22; 8:45 am]

BILLING CODE 6560-50-P